DEPARTMENT OF JUSTICE

Drug Enforcement Administration

Manufacturer of Controlled Substances; Notice of Correction

As set forth in the Federal Register on August 5, 2002 (68 FR 46226), Mallinckrodt, Inc., Mallinckrodt & Second Streets, St. Louis, Missouri 63147, was granted a registration as a bulk manufacturer of certain Schedule I and II controlled substances.

By letter dated August 12, 2003, Mallinckrodt, Inc., advised that the Notice of Registration erroneously included heroin (9200) and nicomorphine (9312), basic classes of Schedule I controlled substances. Therefore, drug codes 9200 and 9312 are hereby withdrawn from the firm's bulk manufacturer registration.

Dated: September 8, 2003.
Laura M. Nagel,
Deputy Assistant Administrator, Office of Diversion Control, Drug Enforcement Administration.

[FR Doc. 03-25101 Filed 10-2-03; 8:45 am]

BILLING CODE 4410-09-M